FEDERAL RETIREMENT THRIFT INVESTMENT BOARD

Notice of Board Meeting

DATES: July 22, 2025 at 10:00 a.m. ET.

ADDRESSES: Telephonic. Dial-in (listen only) information: Number: 1-202-599-1426, Code: 705 527 914#; or via web: https://www.frtib.gov/.

FOR FURTHER INFORMATION CONTACT: James Kaplan, Director, Office of External Affairs, (202) 864-7150.

SUPPLEMENTARY INFORMATION:

Board Meeting Agenda

Open Session

1. Approval of the June 24, 2025, Board Meeting Minutes

2. Monthly Reports

(a) Participant Report

(b) Legislative Report

3. Quarterly Reports

(c) Investment Review

(d) Budget Review

(e) Audit Status

5. Annual Financial Audit—Sikich

6. Internal Audit Update

7. OI Office Presentation

8. FY 2026 Budget Proposal

Closed Session

9. Information covered under 5 U.S.C. 552b(c)(9)(B).

Authority: 5 U.S.C. 552b (e)(1).

Dated: July 9, 2025.
Stefanie George,
Acting General Counsel, Federal Retirement Thrift Investment Board.

[FR Doc. 2025-13038 Filed 7-11-25; 8:45 am]

BILLING CODE P